DEPARTMENT OF THE TREASURY

Fiscal Service

Surety Companies Acceptable on Federal Bonds Change in State of Incorporation; Western Bonding Company; Western Insurance Company

AGENCY: Financial Management Service, Fiscal Service, Department of the Treasury.

ACTION: Notice.

SUMMARY: This is Supplement No. 7 to the Treasury Department Circular 570, 2010 Revision, published July 1, 2010, at 75 FR 38192.

FOR FURTHER INFORMATION CONTACT: Surety Bond Branch at (202) 874-6850.

SUPPLEMENTARY INFORMATION: Notice is hereby given that Western Bonding Company (NAIC#13191) and Western Insurance Company (NAIC#10008) have redomesticated from the state of Nevada to the state of Utah effective December 1, 2010. Federal bond-approving officials should annotate their reference copies of the Treasury Department Circular 570 (“Circular”), 2010 Revision, to reflect this change.

The Circular may be viewed and downloaded through the Internet at http://www.fms.treas.gov/c570.

Questions concerning this notice may be directed to the U.S. Department of the Treasury, Financial Management Service, Financial Accounting and Services Division, Surety Bond Branch, 3700 East-West Highway, Room 6F01, Hyattsville, MD 20782.

Dated: March 2, 2011.
Laura Carrico,
Director, Financial Accounting and Services Division.

[FR Doc. 2011-5890 Filed 3-16-11; 8:45 am]

BILLING CODE 4810-35-M